SECURITIES AND EXCHANGE COMMISSION

Sunshine Act Meetings

TIME AND DATE: Notice is hereby given, pursuant to the provisions of the Government in the Sunshine Act, Public Law 94-409, that the Securities and Exchange Commission staff will hold a public roundtable on Thursday, October 25, 2018 at 10:30 a.m. and Friday, October 26, 2018 at 9:00 a.m.

PLACE: The roundtable will be held in the Auditorium at the Commission's headquarters, 100 F Street NE, Washington, DC.

STATUS: The meeting will begin at 10:30 a.m. on October 25 and 9:00 a.m. on October 26 and will be open to the public. To ensure sufficient seating for members of the public wishing to attend in-person, registration is encouraged. Doors will open at 9:30 a.m. on October 25 and 8:00 a.m. on October 26. Visitors will be subject to security checks. The meeting will be webcast on the Commission's website at www.sec.gov.

MATTERS TO BE CONSIDERED: The Commission staff will host a two-day roundtable on market data and market access. The roundtable is open to the public and the public may submit written comments here. This Sunshine Act notice is being issued because a majority of the Commission may attend the roundtable.

The roundtable will focus on assessing current market data products, market access services, and their associated fees, and assessing the elements, governance and funding of core data infrastructure, as well as public transparency to improve such products and services.

CONTACT PERSON FOR MORE INFORMATION: For further information, please contact Brent J. Fields from the Office of the Secretary at (202) 551-5400.

Dated: October 18, 2018.
Brent J. Fields,
Secretary.

[FR Doc. 2018-23179 Filed 10-19-18; 11:15 am]

BILLING CODE 8011-01-P